ENVIRONMENTAL PROTECTION AGENCY

[EPA-HQ-ORD-2015-0528; FRL-9934-64-ORD]

Board of Scientific Counselors Homeland Security Subcommittee; Notification of Public Teleconference Meeting and Public Comment

AGENCY: Environmental Protection Agency (EPA).

ACTION: Notification of public teleconference meeting and public comment.

SUMMARY: Pursuant to the Federal Advisory Committee Act, Public Law 92-463, the U.S. Environmental Protection Agency hereby provides notice that the Board of Scientific Counselors (BOSC) Homeland Security Subcommittee will host a public teleconference meeting on Thursday, October 1, 2015, from 1:00 p.m. to 3:00 p.m. Eastern Time. The primary discussion will focus on the draft report summarizing recommendations from the August 25-27, 2015 meeting. There will be a public comment period from 2:45 p.m. to 3:00 p.m. Eastern Time. Members of the public are encouraged to provide comments relevant to the topics of the meeting.

For additional information about registering to attend the meeting or to provide public comment, please see the REGISTRATION and SUPPLEMENTARY INFORMATION sections below. Due to a limited number of telephone lines, attendance will be on a first-come, first-served basis. Pre-registration is required. Registration for the teleconference meeting closes at noon Eastern Time, Tuesday, September 29, 2015. The deadline to sign up to speak during the public comment period, or to submit written public comments, is also noon, Tuesday, September 29, 2015.

DATES: The BOSC Homeland Security Subcommittee teleconference meeting on Thursday, October 1, 2015, will begin promptly at 1:00 p.m. Eastern Time. Registration: In order to participate on the teleconference you must register at the following site: https://www.eventbrite.com/e/us-epa-bosc-homeland-security-subcommittee-conference-call-registration-18471366354. Once you have completed the online registration you will be contacted and provided with call-in instructions.

FOR FURTHER INFORMATION CONTACT: Questions or correspondence concerning the teleconference meeting should be directed to Tom Tracy, Designated Federal Officer, Environmental Protection Agency, by mail at 1200 Pennsylvania Avenue NW., (MC 8104 R), Washington, DC 20460; by telephone at 202-564-6518; or via email at tracy.tom@epa.gov.

SUPPLEMENTARY INFORMATION: The Charter of the BOSC states that the advisory committee shall provide independent advice to the Administrator on technical and management aspects of the Office of Research and Development's research program. Additional information about the BOSC is available at: http://www2.epa.gov/bosc.

Oral Statements: Members of the public who wish to provide oral comment during the Thursday, October 1, 2015, public teleconference meeting must pre-register by noon, Eastern Time on Tuesday, September 29, 2015 at: https://www.eventbrite.com/e/us-epa-bosc-homeland-security-subcommittee-conference-call-registration-18471366354. Individuals or groups making remarks during the public comment period will be limited to five (5) minutes. To accommodate the number of people who want to address the BOSC Homeland Security Subcommittee, only one representative of a particular community, organization, or group will be allowed to speak.

Written Statements: Written comments for the public meeting must be received by noon, Eastern Time on Tuesday, September 29, 2015, and will be included in the materials distributed to the BOSC Homeland Security Subcommittee prior to the teleconference. Written comments should be sent to Tom Tracy, Environmental Protection Agency, via email at tracy.tom@epa.gov or by mail to 1200 Pennsylvania Avenue NW., (MC 8104 R), Washington, DC 20460 or submitted through regulations.gov, Docket ID No. EPA-HQ-ORD-2015-0528.

Information about Services for Individuals with Disabilities: For information about access or services for individuals with disabilities, please contact Tom Tracy, at 202-564-6518 or via email at tracy.tom@epa.gov. To request special accommodations for a disability, please contact Tom Tracy no later than September 28, 2015 to give EPA sufficient time to process your request. All requests should be sent to the address, email, or phone number listed in the FOR FURTHER INFORMATION CONTACT section above.

Dated: September 17, 2015.
Fred S. Hauchman,
Director, Office of Science Policy.

[FR Doc. 2015-24307 Filed 9-23-15; 8:45 am]

BILLING CODE 6560-50-P